DEPARTMENT OF VETERANS AFFAIRS

Privacy Act of 1974; System of Records

AGENCY: Veterans Benefits Administration (VBA), Department of Veterans Affairs (VA).

ACTION: Notice of a modified system of records.

SUMMARY: Pursuant to the Privacy Act of 1974, notice is hereby given that the Department of Veterans Affairs (VA) is amending the system of records entitled, “Veterans Assistance Discharge System-VA” (45VA21). This system collects a limited amount of personally identifiable information (PII) for the purpose of maintaining records and providing benefits to Veterans who file claims for a wide variety of Federal Veteran's benefits administered by VA at VA facilities located throughout the United States. VA gathers or creates these records to enable it to administer statutory benefits programs. VA is republishing the system notice in its entirety.

DATES: Comments on this modified system of records must be received no later than 30 days after date of publication in the Federal Register. If no public comment is received during the period allowed for comment or unless otherwise published in the Federal Register by VA, the modified system of records will become effective a minimum of 30 days after date of publication in the Federal Register. If VA receives public comments, VA shall review the comments to determine whether any changes to the notice are necessary.

ADDRESSES: Comments may be submitted through www.Regulations.gov or mailed to VA Privacy Service, 810 Vermont Avenue NW, (005R1A), Washington, DC 20420. Comments should indicate that they are submitted in response to Veterans Assistance Discharge System-VA (45VA21). Comments received will be available at regulations.gov for public viewing, inspection, or copies.

FOR FURTHER INFORMATION CONTACT: Cheryl J. Rawls, Director of Outreach, Transition, and Economic Development (OTED), Veterans Benefits Administration (VBA), Department of Veterans Affairs, 1800 G Street NW, Washington, DC 20006, (202) 461-9412, OTED.VBACO@VA.GOV.

SUPPLEMENTARY INFORMATION: VA is amending the system by updating the Routine Uses of Records Maintained in the System. Additionally, the name and address of the System Owner has been updated for accuracy.

Signing Authority

The Senior Agency Official for Privacy, or designee, approved this document and authorized the undersigned to sign and submit the document to the Office of the Federal Register for publication electronically as an official document of the Department of Veterans Affairs. Kurt D. DelBene, Assistant Secretary for Information and Technology and Chief Information Officer, approved this document on January 31, 2023 for publication.

Dated: February 1, 2023.
Amy L. Rose,
Program Analyst, VA Privacy Service, Office of Information Security, Office of Information and Technology, Department of Veterans Affairs.

SYSTEM NAME AND NUMBER:

Veterans Assistance Discharge System-VA (45VA21).

SECURITY CLASSIFICATION:

Classified.

SYSTEM LOCATION:

Records are maintained at VA Regional Offices; VA Medical Centers; the VA Records Management Center, St. Louis, Missouri; and at the Corporate Franchise Data Center in Austin, Texas.

SYSTEM MANAGER(S):

Cheryl J. Rawls, Director Outreach, Transition, and Economic Development (OTED), Veterans Benefits Administration (VBA), Department of Veterans Affairs, 1800 G Street NW, Washington DC 20006, (202) 461-9412, OTED.VBACO@VA.GOV.

AUTHORITY FOR MAINTENANCE OF THE SYSTEM:

38 U.S.C., chapter 3, sections 501(a), (b).

PURPOSE(S) OF THE SYSTEM:

This system collects a limited amount of personally identifiable information (PII) for the purpose of maintaining records and providing benefits to Veterans who file claims for a wide variety of Federal Veteran's benefits administered by VA at VA facilities located throughout the United States. See the statutory provisions cited in “Authority for maintenance of the system”. VA gathers or creates these records to enable it to administer these statutory benefits programs.

CATEGORIES OF INDIVIDUALS COVERED BY THE SYSTEM:

Individuals (Veterans only) released from active military service since March 1973, for whom separation documents (i.e., DD Forms 214, 215) were received in the Corporate Franchise Data Center in Austin, Texas.

CATEGORIES OF RECORDS IN THE SYSTEM:

The records, or information contained in the records, may include PII and military discharge information. PII may include the following concerning the Veteran: full name, Social Security number, service number and date of birth. Military discharge information may include the primary military occupational specialty number, entry and release from active duty, character of service, branch of service and mailing address at the time of discharge, level of education (e.g., high school graduate or equivalent or not high school graduate or equivalent), sex, total amount of active service, the dollar amount of readjustment or severance pay, number of non-paydays, pay grade, narrative reason for separation and whether the Veteran was discharged with a disability, served in the Vietnam Conflict, reenlisted in the military service or received a military decoration such as a Purple Heart.

RECORD SOURCE CATEGORIES:

The Department of Defense provides copies of DD Form 214, Certificate of Release or Discharge from Active Duty and DD Form 215, Correction to DD Form 214 to VA. U.S. Public Health Service provides copies of PHS-1867, Statement of Service Verification of Status of Commissioned Officers of the U.S. PHS to VA. The National Oceanic and Atmospheric Administration provides VA with copies of ESSA Form 56-16, Report of Separation Discharge.

ROUTINE USES OF RECORDS MAINTAINED IN THE SYSTEM, INCLUDING CATEGORIES OF USERS AND PURPOSES OF SUCH USES:

1. Congress: VA may disclose information to a Member of Congress or staff acting upon the Member's behalf when the Member or staff requests the information on behalf of, and at the request of, the individual who is the subject of the record.

2. Data Breach Response and Remediation, for VA: VA may disclose information to appropriate agencies, entities, and persons when (1) VA suspects or has confirmed that there has been a breach of the system of records, (2) VA has determined that as a result of the suspected or confirmed breach there is a risk of harm to individuals, VA (including its information systems, programs, and operations), the Federal Government, or national security; and (3) the disclosure made to such agencies, entities, and persons is reasonably necessary to assist in connection with VA's efforts to respond to the suspected or confirmed breach or to prevent, minimize, or remedy such harm.

3. Data Breach Response and Remediation, for Another Federal Agency: VA may disclose information to another Federal agency or Federal entity, when VA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

4. Law Enforcement: VA may disclose information that, either alone or in conjunction with other information, indicates a violation or potential violation of law, whether civil, criminal, or regulatory in nature, to a Federal, state, local, territorial, tribal, or foreign law enforcement authority or other appropriate entity charged with the responsibility of investigating or prosecuting such violation or charged with enforcing or implementing such law. The disclosure of the names and addresses of Veterans and their dependents from VA records under this routine use must also comply with the provisions of 38 U.S.C. 5701.

5. DoJ for Litigation or Administrative Proceeding: VA may disclose information to the Department of Justice (DoJ), or in a proceeding before a court, adjudicative body, or other administrative body before which VA is authorized to appear, when:

(a) VA or any component thereof;

(b) Any VA employee in his or her official capacity;

(c) Any VA employee in his or her individual capacity where DoJ has agreed to represent the employee; or

(d) The United States, where VA determines that litigation is likely to affect the agency or any of its components is a party to such proceedings or has an interest in such proceedings, and VA determines that use of such records is relevant and necessary to the proceedings.

6. Contractors: VA may disclose information to contractors, grantees, experts, consultants, students, and others performing or working on a contract, service, grant, cooperative agreement, or other assignment for VA, when reasonably necessary to accomplish an agency function related to the records.

7. OPM: VA may disclose information to the Office of Personnel Management (OPM) in connection with the application or effect of civil service laws, rules, regulations, or OPM guidelines in particular situations.

8. EEOC: VA may disclose information to the Equal Employment Opportunity Commission (EEOC) in connection with investigations of alleged or possible discriminatory practices, examination of Federal affirmative employment programs, or other functions of the Commission as authorized by law.

9. FLRA: VA may disclose information to the Federal Labor Relations Authority (FLRA) in connection with the investigation and resolution of allegations of unfair labor practices, the resolution of exceptions to arbitration awards when a question of material fact is raised, matters before the Federal Service Impasses Panel, and the investigation of representation petitions and the conduct or supervision of representation elections.

10. MSPB: VA may disclose information to the Merit Systems Protection Board (MSPB) in connection with appeals, special studies of the civil service and other merit systems, review of rules and regulations, investigation of alleged or possible prohibited personnel practices, and such other functions promulgated in 5 U.S.C. 1205 and 1206, or as authorized by law.

11. NARA: VA may disclose information to the National Archives and Records Administration (NARA) in records management inspections conducted under 44 U.S.C. 2904 and 2906, or other functions authorized by laws and policies governing NARA operations and VA records management responsibilities.

12. Federal Agencies, for Computer Matches: VA may disclose information from this system to other federal agencies for the purpose of conducting computer matches to obtain information to determine or verify eligibility of Veterans receiving VA benefits or medical care under title 38, U.S.C.

13. Governmental Agencies, Health Organizations, for Claimants' Benefits: VA may disclose information to Federal, state, and local government agencies and national health organizations as reasonably necessary to assist in the development of programs that will be beneficial to claimants, to protect their rights under law, and assure that they are receiving all benefits to which they are entitled.

14. Governmental Agencies, for VA Hiring, Security Clearance, Contract, License, Grant: VA may disclose information to a Federal, state, local, or other governmental agency maintaining civil or criminal violation records, or other pertinent information, such as employment history, background investigations, or personal or educational background, to obtain information relevant to VA's hiring, transfer, or retention of an employee, issuance of a security clearance, letting of a contract, or issuance of a license, grant, or other benefit. The disclosure of the names and addresses of Veterans and their dependents from VA records under this routine use must also comply with the provisions of 38 U.S.C. 5701.

15. Federal Agencies, for Employment: VA may disclose information to a Federal agency, except the United States Postal Service, or to the District of Columbia government, in response to its request, in connection with that agency's decision on the hiring, transfer, or retention of an employee, the issuance of a security clearance, the letting of a contract, or the issuance of a license, grant, or other benefit by that agency.

16. State or Local Agencies, for Employment: VA may disclose information to a state, local, or other governmental agency, upon its official request, as relevant and necessary to that agency's decision on the hiring, transfer, or retention of an employee, the issuance of a security clearance, the letting of a contract, or the issuance of a license, grant, or other benefit by that agency. The disclosure of the names and addresses of Veterans and their dependents from VA records under this routine use must also comply with the provisions of 38 U.S.C. 5701.

17. Law Enforcement, for Locating Fugitive: In compliance with 38 U.S.C. 5313B(d), VA may disclose information to any Federal, state, local, territorial, tribal, or foreign law enforcement agency in order to identify, locate, or report a known fugitive felon.

18. Business Partners, for Collaborative Efforts: VA may disclose information to individuals or entities with whom VA has a written agreement or arrangement to perform such services as VA may deem practical for the purpose of laws administered by VA.

19. Federal Agencies, for Research: VA may disclose information to a Federal agency for the purpose of conducting research and data analysis to perform a statutory purpose of that Federal agency upon the written request of that agency.

20. DOD, for Military Mission: VA may disclose information regarding individuals treated under 38 U.S.C. 8111A to the Department of Defense, or its components, for the purpose deemed necessary by appropriate military command authorities to assure proper execution of the military mission.

21. OMB: VA may disclose information to the Office of Management and Budget (OMB) for the performance of its statutory responsibilities for evaluating Federal programs.

22. Claims Representatives: VA may disclose information relevant to a claim of a veteran or beneficiary, such as the name, address, the basis and nature of a claim, amount of benefit payment information, medical information, and military service and active duty separation information, only at the request of the claimant to accredited service organizations, VA-approved claim agents, and attorneys acting under a declaration of representation, so that these individuals can aid claimants in the preparation, presentation, and prosecution of claims under the laws administered by VA.

23. Nonprofits, for RONA: VA may disclose the names and address(es) of present or former members of the armed services or their beneficiaries: (1) to a nonprofit organization if the release is directly connected with the conduct of programs and the utilization of benefits under title 38, and (2) to any criminal or civil law enforcement governmental agency or instrumentality charged under applicable law with the protection of the public health or safety, if a qualified representative of such organization, agency, or instrumentality has made a written request that such names or addresses be provided for a purpose authorized by law; provided that the records will not be used for any purpose other than that stated in the request and that organization, agency, or instrumentality is aware of the penalty provision of 38 U.S.C. 5701(f).

24. Outreach: VA may disclose information upon request to any state, local, territorial, tribal, or other governmental agency upon request for the purpose of outreach concerning a benefit under Title 38.

POLICIES AND PRACTICES FOR STORAGE OF RECORDS:

Records (or information contained in records) are maintained on paper documents in claims folders (C-folders), vocational rehabilitation folders, electronic file folders (e.g., Virtual VA and TIMS File), and on automated storage media (e.g., microfilm, microfiche, magnetic tape, and disks). Such information may be accessed through data telecommunication terminal systems designated the Benefits Delivery Network (BDN), Virtual VA and Veterans Service Network (VETSNET). BDN, Virtual VA and VETSNET terminal locations include VA Central Office, VA Regional Offices, VA Medical Centers, and Veterans Integrated Service Network (VISN) offices. Remote on-line access is also made available to authorized remote sites, representatives of claimants and to attorneys of record for claimants. A VA claimant must execute a prior written consent or a power of attorney authorizing access to his or her claims records before VA will allow the representative or attorney to have access to the claimant's automated claims records. Access by representatives and attorneys of record is to be used solely for the purpose of assisting an individual claimant whose records are accessed in a claim for benefits administered by VA.

POLICIES AND PRACTICES FOR RETRIEVAL OF RECORDS:

Information is retrievable by name only; name and one or more numbers (service, Social Security, VA claims file, and VA insurance file); name and one or more criteria (e.g., date of birth, death, and service); VA file number only; or initials or first five letters of the last name and VA file number.

POLICIES AND PRACTICES FOR RETENTION AND DISPOSAL OF RECORDS:

Records in this system are retained and disposed of in accordance with the schedule approved by the Archivist of the United States, VB-1, Part II, Central Office, Item No. 2-13.2.

ADMINISTRATIVE, TECHNICAL, AND PHYSICAL SAFEGUARDS:

Access to the basic file in the Corporate Franchise Data Center in Austin, Texas is restricted to authorized VA employees and vendors. Access to working spaces and claims folder file storage areas in VA Regional Offices and VA Medical Centers is restricted to VA employees who have a need-to-know for the performance of their official duties associated with providing Veterans benefits. Generally, file areas are locked after normal duty hours and the offices and centers are protected from outside access by the Federal Protective Service or other security personnel. Access to BDN, Virtual VA and VETSNET data telecommunication networks are controlled by authorization of the site security officer who is responsible for authorizing access to the BDN, Virtual VA and VETSNET by a claimant's representative or attorney approved for access in accordance with VA regulations. The site security officer is responsible for ensuring that the hardware, software, and security practices of a representative or attorney satisfy VA security requirements before granting access. The security requirements applicable to the access of automated claims files by VA employees also apply to the access of automated claims files by claimants' representatives or attorneys. The security officer is assigned responsibility for implementing and enforcing privacy-security measures, especially for review of violation logs, information logs and control of password distribution, including password distribution for claimants' representatives.

RECORD ACCESS PROCEDURES:

Individuals seeking information on the existence and content of records in this system pertaining to them should contact the system manager in writing as indicated above. A request for access to records must contain the requester's full name, address, telephone number, be signed by the requester, and describe the records sought in sufficient detail to enable VA personnel to locate them with a reasonable amount of effort.

CONTESTING RECORD PROCEDURES:

Individuals seeking to contest or amend records in this system pertaining to them should contact the system manager in writing as indicated above. A request to contest or amend records must state clearly and concisely what record is being contested, the reasons for contesting it, and the proposed amendment to the record.

NOTIFICATION PROCEDURES:

Generalized notice is provided by the publication of this notice. For specific notice, see Record Access Procedure, above.

EXEMPTIONS PROMULGATED FOR THE SYSTEM:

None.

HISTORY:

75 FR 61865 (October 6, 2010).

[FR Doc. 2023-02388 Filed 2-3-23; 8:45 am]

BILLING CODE 8320-01-P